DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (we) solicits review and comment from local, State, and Federal agencies, and the public on the following permit requests.

DATES: Comments on these permit applications must be received on or before January 9, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents to the address above. Please refer to the respective permit number for each application when requesting copies of documents.

SUPPLEMENTARY INFORMATION:

Permit No. TE-839960

Applicant: John Dicus, Black Canyon City, Arizona.

The permittee requests an amendment to take (survey by pursuit) the Quino checkerspot butterfly (Euphydryas editha quino) in conjunction with surveys throughout the range of the species in California for the purpose of enhancing its survival.

Permit No. TE-111829

Applicant: Gerald Hatler, Fresno, California.

The applicant requests a permit to take (harass by survey, capture, handle, larval sample, and release) the California tiger salamander (Eucyclogobius newberryi) in conjunction with population and distribution surveys throughout the range of the species in California for the purpose of enhancing its survival.

Permit No. TE-083783

Applicant: Debra R. Ayres, Davis, California.

The permittee requests an amendment to reduce/remove to possession (collect tissue and seed) Lasthenia burkei (Burke's goldfields), Bennosperma bakeri (Sonoma sunshine), and Limnanthes vinculans (Sebastopol meadowfoam) in conjunction with genetic research, in Mendocino, Lake, and Sonoma Counties, California, for the purpose of enhancing their survival.

Permit No. TE-052159

Applicant: Jeff Ahrens, Irvine, California.

The permittee requests an amendment to take (harass by survey and nest monitor) the southwestern willow flycatcher (Empidonax traillii extimus) in conjunction with surveys throughout the range of the species in California for the purpose of enhancing its survival.

Permit No. TE-114936

Applicant: Bonnie Nash, Norco, California.

The applicant requests a permit to take (nest monitor) the least Bell's vireo (Vireo bellii pusillus) in conjunction with surveys in Orange, Riverside, and San Bernardino Counties, California, for the purpose of enhancing its survival.

Permit No. TE-067347

Applicant: Crysta Dickson, San Clemente, California.

The permittee requests an amendment to take (capture and collect and sacrifice) the Conservancy fairy shrimp (Branchinecta conservatio), the longhorn fairy shrimp (Branchinecta longiantenna), and the vernal pool tadpole shrimp (Lepidurus packardi) in conjunction with surveys throughout the range of each species in California for the purpose of enhancing their survival.

Permit No. TE-813545

Applicant: Brock Ortega, Poway, California.

The permittee requests an amendment to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-037508

Applicant: Essex Environmental, Carlsbad, California.

The permittee requests an amendment to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-064359

Applicant: Sophia Chiang, Aliso Viejo, California.

The permittee requests an amendment to take (capture and collect and sacrifice) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in California for the purpose of enhancing their survival.

Permit No. TE-114928

Applicant: John A. Howe, Sacramento, California.

The applicant requests a permit to take (capture and collect and sacrifice) the Conservancy fairy shrimp (Branchinecta conservatio), the longhorn fairy shrimp (Branchinecta longiantenna), and the vernal pool tadpole shrimp (Lepidurus packardi) in conjunction with surveys throughout the range of each species in California for the purpose of enhancing their survival.

We solicit public review and comment on each of these recovery permit applications.

Dated: November 23, 2005.
Michael B. Fris,
Acting Manager, California/Nevada Operations Office, U.S. Fish and Wildlife Service.

[FR Doc. E5-7109 Filed 12-8-05; 8:45 am]

BILLING CODE 4310-55-P